DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs (OFCCP), Equal Opportunity Survey. A copy of the proposed information collection request can be obtained by contacting the office listed below in the addresses section of this Notice.

DATES: Written comments must be submitted to the office listed in the addresses section below on or before December 19, 2005.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

Government contractors provide information on their personnel activities and the results of their affirmative action efforts to employ and promote minorities and women. This information is used to select specifically identified contractors for compliance evaluations and compliance assistance. These requirements have been established under Executive Order 11246, as amended; Section 503 of the Rehabilitation Act of 1973, as amended; and the Vietnam Era Veterans' Readjustment Assistance Act, as amended, 38 U.S.C. 4212. Implementing regulations are at 41 CFR Chapter 60. The regulations at 41 CFR part 60-2.18 authorize the collection of data by OFCCP through the use of the EO Survey. In addition, the regulations at 41 CFR part 60-1.12 require contractors to collect and retain employment and other related records. The EO Survey is a request for some of those data. With these data, the Survey is intended to improve the selection of contractors for compliance evaluations which are used to determine compliance with the non-discrimination and equal employment opportunity (EEO) regulations. This information collection is currently approved for use through December 31, 2005.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks a three year extension of approval to collect this information in order to permit OFCCP the time to continue its assessment and evaluation of the EO Survey. During this period, OFCCP will conduct a cost benefit analysis to examine the effectiveness of the EO Survey; as a useful tool in the selection of contractors that are not in compliance with their Equal Employment Opportunity and non-discrimination obligations. The OFCCP seeks a three year extension to the approval of the Equal Opportunity Survey. There is no change in the substance or method of collection since the last OMB approval.

Type of Review: Extension.

Agency: Employment Standards Administration.

Titles: Equal Opportunity Survey.

OMB Number: 1215-0196.

Affected Public: Business or other for-profit; Not-for-profit institutions.

Total Respondents: 10,000.

Total Annual Responses: 10,000.

Estimated Total Burden Hours: 210,000.

Estimated Time per Response: 21 hours.

Frequency: Annually.

Total Burden Cost (capital/startup): $0.

Total Burden Cost (operating/maintenance): $30,000.

Comments submitted in response to this notice will be summarized and/or included in the request for Office of Management and Budget approval of the information collection request; they will also become a matter of public record.

Dated: October 14, 2005.
Bruce Bohanon,
Chief, Branch of Management Review and Internal Control, Division of Financial Management, Office of Management, Administration and Planning, Employment Standards Administration.

[FR Doc. 05-20925 Filed 10-18-05; 8:45 am]

BILLING CODE 4510-CM-P